DEPARTMENT OF THE INTERIOR

Fish and Wildlife Service

[FWS-R8-ES-2009-N242; 80221-1112-0000-F2]

Issuance of an Incidental Take Permit to Shell Wind Energy for Construction and Operation of the Bear River Ridge Wind Power Project (Multiple Species Habitat Conservation Plan), Humboldt County, CA

AGENCY: Fish and Wildlife Service, Interior.

ACTION: Notice of intent to prepare a joint Environmental Impact Report (EIR) and Environmental Impact Statement (EIS) and notice of public scoping meetings.

SUMMARY: We, the U.S. Fish and Wildlife Service (USFWS), intend to prepare an Environmental Impact Statement (EIS), under the National Environmental Policy Act (NEPA) regarding an application from Shell Wind Energy for an incidental take permit for take of threatened wildlife species in accordance with section 10(a)(1)(B) of the Endangered Species Act of 1973, as amended (Act). The USFWS and the County of Humboldt will be developing a combined EIR and EIS document for the proposed project. Shell Wind Energy is proposing to construct and operate the Bear River Ridge Wind Power Project near Ferndale, in Humboldt County, California. The project would consist of up to 25 wind turbines with a generating capacity of 50 megawatts (MW) of electricity. Activities Shell Wind Energy will propose for permit coverage in its habitat conservation plan (Plan) include construction, operation, maintenance, and decommissioning of the Bear River Ridge Wind Power project and associated off-site improvements. The Plan may also cover certain proposed off site mitigation activities. We are furnishing this notice to announce the initiation of a public scoping period, during which we invite other agencies and the public to provide written comments on the range of alternatives and scope of issues to be included in the EIS.

DATES: To ensure consideration, please send your written comments by February 22, 2010. We will hold two public scoping meetings:

1. Tuesday, February 2, 2010, 7-9 p.m., Fortuna, CA.

2. Wednesday, February 3, 2010, 7-9 p.m., Eureka, CA.

ADDRESSES:

Public Meeting Locations

1. Tuesday, February 2, 2010, at the Riverlodge, 1800 Riverwalk Drive Fortuna, CA 95540.

2. Wednesday, February 3, 2010, at the Wharfinger Building, #1 Marina Way, Eureka, CA 95501.

EIS Preparation and NEPA Process: Address any information, written comments or questions related to the preparation of the EIS and NEPA process to Mr. James Bond, U.S. Fish and Wildlife Service, 1655 Heindon Road, Arcata, CA 95521. Alternatively, you may fax written comments to 707-822-8411. Comments we receive will be available for public inspection, by appointment, during normal business hours (Monday through Friday; 8-4:30 p.m.) at the above address.

FOR FURTHER INFORMATION CONTACT: Mr. James Bond, at the Arcata address above, or by telephone: 707-822-7201; fax: 707-822-8411; or e-mail: james_bond@fws.gov.

SUPPLEMENTARY INFORMATION: In accordance with section 10(a)(2)(A) of the Endangered Species Act of 1973, as amended (Act; 16 U.S.C. 1531 et seq.), Shell Wind Energy is preparing a habitat conservation plan in support of an application for a permit from USFWS to incidentally take the marbled murrelet (Brachyramphus marmoratus), and northern spotted owl (Strix occidentalis caurina) in connection with the construction, operation and decommissioning of the Bear River Ridge Wind Power Project in Humboldt County, California. Both the marbled murrelet and the northern spotted owl are listed as threatened species under the Act. To facilitate a consistency determination under the California Endangered Species Act from the California Department of Fish and Game for the proposed project, the Plan is also expected to include the yellow-billed cuckoo (Coccyzus americanus) and willow flycatcher (Empidonax traillii) as covered species.

Background

Shell Wind Energy proposes to construct, operate, and decommission the Bear River Wind Power Project in Humboldt County, California. The Bear River Wind Power Project would be located on private property, primarily along the Bear River Ridge within the northern Coast Ranges around Cape Mendocino in Humboldt County, California. Shell Wind Energy has obtained long-term agreements (wind leases) with local landowners to develop the property for the wind energy project. The project area is currently used primarily for agriculture (i.e., cattle production) and timberland management.

The Bear River Wind Project proposes to operate up to 25 wind turbines with an anticipated total generating capacity of up to approximately 50 MW. The wind turbines would be arranged within turbine “strings” and be sited within 500-foot-wide corridors.

In addition to turbines, Shell Wind Energy's proposed project includes the following components:

• Approximately 5 miles of newly constructed access roads, turbine string roads and turn-around areas;

• Up to three permanent meteorological towers;

• A site-control and data acquisition system;

• A 34.5-kilovolt (kV) power collection system that will deliver power generated by the turbines to the project substation. Collector cables will be placed in trenches and buried underground between turbine locations. The underground collection system would terminate at the project substation;

• A project substation where power from the 34.5-kV collection system would be stepped up to the voltage required for the interconnection to the regional transmission system.

• An approximately 12-mile-long overhead transmission line that would transfer power from the project substation to the Pacific Gas and Electric (PG&E) regional transmission system in the City of Rio Dell; and

• An operations and maintenance (O&M) facility, including a main building with offices, spare parts storage, restrooms, a shop area, outdoor parking facilities, a turn-around area for larger vehicles, outdoor lighting, and a gated access with partial or full-perimeter fencing located in the City of Rio Dell near the existing PG& E substation.

Construction of the proposed project would also require a staging area on the project site and potentially a temporary concrete batch plant. During construction, a total of approximately 3 million gallons of water would be required for road compaction, underground collection line installation, dust suppression, and concrete mixing. Approximately half the water consumption would be for dust control and the other half for all other construction activities. No new wells would be drilled or springs developed. Water needed for the construction activities would be provided through a nearby water source with a permitted water right issued through the State of California, State Water Resources Control Board Division of Water Rights.

Construction of the project's roads, facilities, and electrical/communication lines would occur at about the same time, using individual vehicles for multiple tasks. Based on data provided for typical wind energy projects of similar size, it is anticipated that during the construction period, there would be approximately 60 daily round trips by vehicles transporting construction personnel to the site. Over the entire construction period, there will be approximately 850 trips of large trucks delivering the turbine components and related equipment to the project site and approximately 2,500 truck trips by dump trucks, concrete trucks, water trucks, cranes, and other construction and trade vehicles. After construction, project O&M activities would require approximately three round trips per day using pickups or other light-duty trucks.

Construction traffic would be routed from Humboldt Bay along State and county roads, ultimately accessing the project site through Ferndale and/or Rio Dell. It is anticipated that improvements to county roads would be required to enable the passing of trucks transporting large turbine components.

Routine maintenance would consist primarily of daily travel by technicians that would test and maintain the wind facilities. Operation and Maintenance staff would travel in pickup or other light-duty trucks. Occasionally, the use of a crane or equipment transport vehicles may be necessary for cleaning, repairing, adjusting, or replacing the rotors or other components of the turbines. Cranes used for maintenance activities are not as large as the large track-mounted cranes needed to erect the turbine towers and are likely to be contracted at the time of service and not stored at the facility.

Monitoring the operations of the Project will be conducted from computers located in the base of each turbine tower and from the O&M building using telecommunication links and computer-based monitoring. Over time, it will be necessary to clean or repaint the blades and towers and periodically exchange lubricants and hydraulic fluids in the mechanisms of the turbines.

Decommissioning would involve removing the turbines, support towers, transformers, substation, and the upper portion of foundations. Site reclamation after decommissioning would be based on site-specific requirements and techniques commonly employed at the time the area will be reclaimed. Techniques could include regrading, spot replacement of topsoil, and revegetation of all disturbed areas with an approved native seed mix. Turbine tower and substation foundations would be removed to a depth as agreed upon with landowners.

Activities that Shell Wind Energy will propose for permit coverage include construction, operation, maintenance and decommissioning of the wind power project and associated offsite improvements. The company may also request permit coverage for certain off-site mitigation activities. Construction, operation and decommissioning of the wind farm, and actions to minimize and mitigate project impacts, have the potential to take wildlife species protected under the Act. Section 10(a)(1)(B) of the Act authorizes the Service to issue incidental take permits to non-Federal land owners for the take of endangered and threatened species, provided that, among other requirements, the take will be incidental to otherwise lawful activities, will not appreciably reduce the likelihood of the survival and recovery of the species in the wild and will be minimized and mitigated to the maximum extent practicable. Shell Wind Energy is preparing a habitat conservation plan that is intended to provide for management of the project site over its lifetime in a manner that will minimize and mitigate the impacts of take of the Federally listed marbled murrelet and northern spotted owl and certain other wildlife species that may be listed during the life of the Plan. Once completed, it is expected that Shell Wind Energy will submit the Plan to USFWS as part of an application for the incidental take permit.

Environmental Impact Statement

We will conduct an environmental review of the permit application, including the Plan. We will prepare an Environmental Impact Statement (EIS) in accordance with NEPA requirements, as amended (42 U.S.C. 4321 et seq.), and NEPA implementing regulations (40 CFR parts 1500 through 1508), and in accordance with other applicable Federal laws and regulations, and the policies and procedures of the USFWS for compliance with those regulations. The Shell Wind Energy project will also require a conditional use permit from Humboldt County. The County is the lead agency pursuant to the California Environmental Quality Act and is responsible for preparing an Environmental Impact Report for the project. The County and USFWS intend to prepare a joint EIR/EIS that we anticipate will be available for public review in late 2010. The EIR/EIS will analyze the environmental impacts of the proposed wind energy project and associated incidental take of species proposed to be covered under the Plan. The EIR/EIS will also analyze the impacts of the conservation strategy proposed by Shell Wind Energy to minimize and mitigate those impacts to the maximum extent practicable. We anticipate that the conservation strategy will identify several biological goals, including development of high quality, suitable habitat necessary for the long-term persistence of the covered species and retention and recruitment of specific habitat elements, including older, larger and more structurally complex or decadent trees to provide for successful reproduction of marbled murrelets and spotted owls. The environmental review will analyze a full range of reasonable alternatives to the proposed action, including a No Action alternative, and describe the associated environmental impacts of each. We are currently in the process of developing alternatives for analysis.

In connection with developing alternative approaches, we will consider, for example, modified lists of covered species, modified permit coverage areas (i.e., portions of the landscape subject to permit coverage), modified permit terms, and different resource management strategies that would serve the purpose of minimizing and mitigating the impacts of incidental take. We will consider other reasonable project alternatives recommended during this scoping process in order to develop a full range of alternatives.

We invite comments and suggestions from all interested parties to ensure consideration of a full range of reasonable alternatives related to development of the EIR/EIS. The USFWS requests that comments be as specific as possible. Comments are requested to include information, issues and concerns regarding:

(1) The direct, indirect, and cumulative effects that implementation of any reasonable alternatives could have on endangered and threatened species and their habitats;

(2) Other reasonable alternatives, and their associated effects;

(3) Measures that would minimize and mitigate potentially adverse effects of the proposed project;

(4) Baseline environmental conditions in and adjacent to the covered lands;

(5) Adaptive management or monitoring provisions that may be incorporated into the alternatives, and their benefits to listed species;

(6) Other plans or projects that might be relevant to this project; and

(7) Any other information pertinent to evaluating the effects of this project on the human environment.

The environmental review will analyze the effects that the considered alternatives would have on the marbled murrelet, spotted owl, yellow-billed cuckoo and willow flycatcher, as well as on other components of the human environment, including but not limited to cultural resources, social resources (including public safety), economic resources, water and air quality, global climate change, and environmental justice.

Direct any comments or questions to the USFWS contact listed above in ADDRESSES. All comments and materials we receive, including names and addresses, will become part of the administrative record and may be released to the public. Before including your address, phone number, e-mail address, or other personal identifying information in your comment, you should be aware that your entire comment—including your personal identifying information—may be made publicly available at any time. While you may ask us in your comment to withhold your personal identifying information from public review, we cannot guarantee that we will be able to do so.

Reasonable Accommodation

Persons needing reasonable accommodations to attend and participate in public meetings should contact James Bond (see FOR FURTHER INFORMATION CONTACT) as soon as possible. To allow sufficient time to process requests, please call no later than 1 week before the public meeting. Information regarding this proposed action is available in alternative formats upon request.

Ken McDermond,
U.S. Fish and Wildlife Service, Region 8, Sacramento, California.

[FR Doc. E9-30340 Filed 12-21-09; 8:45 am]

BILLING CODE 4310-55-P